DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on June 14-16, 2011 in Denver, Colorado, and will focus primarily on invaders in the intermountain West. The meeting will focus on adapting management of invasive species in the vast Rocky Mountain/High Plains region in order to gain new understanding of landscape ecology, climate change, land development, introduction pathways, and new invaders. ISAC will also consult with Western-based scientists and practitioners on problems and potential solutions, as well as evaluate on-the-ground issues firsthand, thereby determining how management methods and practices can be adapted in the West to prevent and manage invasive species.

DATES: Meeting of the Invasive Species Advisory Committee: Tuesday, June 14, 2011 and Thursday, June 16, 2010; beginning at approximately 8 a.m., and ending at approximately 5 p.m. each day. Members will be participating in an off-site field tour on Wednesday, June 15, 2011.

ADDRESSES: The Magnolia Hotel, 818 17th Street, Denver, Colorado 80202. The general session on June 14, 2011 and June 16, 2011 will be held in the Magnolia Ballroom.

FOR FURTHER INFORMATION CONTACT: Kelsey Brantley, National Invasive Species Council Program Analyst and ISAC Coordinator, (202) 513-7243; Fax: (202) 371-1751,

Dated: May 23, 2011.
Kelsey A. Brantley,
Program Specialist, National Invasive Species Council.

[FR Doc. 2011-13226 Filed 5-26-11; 8:45 am]

BILLING CODE 4310-RK-P